PEACE CORPS

Proposed Information Collection Requests

AGENCY: Peace Corps.

ACTION: Notice of public use form review request to the Office of Management and Budget (OMB Control Number 0420-0531).

SUMMARY: Pursuant to the Paperwork Reduction Act of 1981 (44 U.S.C., Chapter 35), the Peace Corps has submitted to the Office of Management and Budget a request for approval of information collections, OMB Control Number 0420-0531, the Career Information Consultants waiver form. The purpose of this notice is to allow for public comments on whether the proposed collection of information is necessary for the proper performance of the functions of the Peace Corps, including whether their information will have practical use; the accuracy of the agency's estimate of the burden of the proposed collections information, including the validity of the methodology and assumptions used; ways to enhance the quality, utility and the clarity of the information to be collected; and, ways to minimize the burden of the collection of information on those who are to respond, including through the use of automated collection techniques, when appropriate, and other forms of information technology. A copy of the information collection may be obtained from Ms. Elvira May, Office of Returned Volunteer Services, Peace Corps, 1111 20th Street, NW, Room 2134, Washington, DC 20526. Ms. May can be contacted by telephone at 202-692-1445 or 800-424-8580 ext 1445. Comments on the form should also be addressed to the attention of Ms. May and should be received on or before July 20, 2001.

Information Collection Abstract

Title: Career Information Consultants waiver form.

Need for and Use of this Information: This form is completed voluntarily by returned Peace Corps Volunteers and professionals in specific career fields. This information will be used by Returned Volunteer Services to assist returned Peace Corps Volunteers with re-entry transition issues. Participation in this program also fulfills the third goal of the Peach Corps as required by Congressional legislation and to enhance the Returned Volunteer Services' outreach program.

Respondents: Returned Peace Corps Volunteers.

Respondent's Obligation to Reply: Voluntary.

Burden on the Public:

a. Annual reporting burden: 417 hours.

b. Annual record keeping burden: 0 hours.

c. Estimated average burden per response: 5 minutes.

d. Frequency of response: annually.

e. Estimated number of likely respondents: 5,000.

f. Estimated cost to respondents: $0.00.

At this time, responses will be returned by mail.

This notice is issued in Washington, DC, on May 7, 2001.
Dough Warnecke,
Acting, Chief Information Officer and Associate Director for Management.

[FR Doc. 01-12616 Filed 5-18-01; 8:45 am]

BILLING CODE 6051-01-M